DEPARTMENT OF ENERGY

Federal Energy Regulatory Commission

Combined Notice of Filings #2

Take notice that the Commission received the following electric rate filings:

Docket Numbers: ER17-2507-000; ER17-2508-000; ER17-2509-000; ER17-2510-000; ER17-2511-000.

Applicants: RE Gaskell West LLC; RE Gaskell West 1 LLC, RE Gaskell West 3 LLC, RE Gaskell West 4 LLC, RE Gaskell West 5 LLC.

Description: Amendment to September 19, 2017 RE Gaskell West LLC, et al. tariff filing(s).

Filed Date: 9/22/17.

Accession Number: 20170922-5177.

Comments Due: 5 p.m. ET 10/6/17.

Docket Numbers: ER18-1-000.

Applicants: California Independent System Operator Corporation.

Description: § 205(d) Rate Filing: 2017-09-29 Reliability Services Phase 1b and 2 Amendment to be effective 2/15/2018.

Filed Date: 10/2/17.

Accession Number: 20171002-5000.

Comments Due: 5 p.m. ET 10/23/17.

Docket Numbers: ER18-2-000.

Applicants: PJM Interconnection, L.L.C.

Description: Tariff Cancellation: Notice of Cancellation of Original Service Agreement No. 4625, Queue No. AB1-164 to be effective 10/1/2017.

Filed Date: 10/2/17.

Accession Number: 20171002-5087.

Comments Due: 5 p.m. ET 10/23/17.

Docket Numbers: ER18-3-000.

Applicants: Nylon Corporation of America.

Description: Baseline eTariff Filing: Application of Nylon Corporation of America for MBR Authorization to be effective 12/1/2017.

Filed Date: 10/2/17.

Accession Number: 20171002-5089.

Comments Due: 5 p.m. ET 10/23/17.

Docket Numbers: ER18-4-000.

Applicants: Mid-Atlantic Interstate Transmission, LLC.

Description: § 205(d) Rate Filing: MAIT submits Interconnection Agreement SA No. 4578 to be effective 12/2/2017.

Filed Date: 10/2/17.

Accession Number: 20171002-5111.

Comments Due: 5 p.m. ET 10/23/17.

Docket Numbers: ER18-5-000.

Applicants: PacifiCorp.

Description: Tariff Cancellation: Term of PacifiCorp Energy Construction Agmt ? Pavant 2 to be effective 12/11/2017.

Filed Date: 10/2/17.

Accession Number: 20171002-5160.

Comments Due: 5 p.m. ET 10/23/17.

Docket Numbers: ER18-6-000.

Applicants: Southern California Edison Company.

Description: § 205(d) Rate Filing: SCE and CDWR Amended Cherry Valley SA and Amended Crafton Hills SA to be effective 12/1/2017.

Filed Date: 10/2/17.

Accession Number: 20171002-5161.

Comments Due: 5 p.m. ET 10/23/17.

Docket Numbers: ER18-7-000.

Applicants: Lamarr Energy, LLC.

Description: Baseline eTariff Filing: Market Based Rate Tariff to be effective 12/1/2017.

Filed Date: 10/2/17.

Accession Number: 20171002-5162.

Comments Due: 5 p.m. ET 10/23/17.

Docket Numbers: ER18-8-000.

Applicants: Tucson Electric Power Company.

Description: § 205(d) Rate Filing: Cancellation of Rate Schedule Nos. 89 and 90 to be effective 12/31/2017.

Filed Date: 10/2/17.

Accession Number: 20171002-5168.

Comments Due: 5 p.m. ET 10/23/17.

Docket Numbers: ER18-9-000.

Applicants: BE Alabama LLC.

Description: Tariff Cancellation: MBR Tariff cancellation to be effective 12/1/2017.

Filed Date: 10/2/17.

Accession Number: 20171002-5243.

Comments Due: 5 p.m. ET 10/23/17.

Docket Numbers: ER18-10-000.

Applicants: Utility Contract Funding, L.L.C.

Description: Tariff Cancellation: MBR tariff cancellation to be effective 12/1/2017.

Filed Date: 10/2/17.

Accession Number: 20171002-5244.

Comments Due: 5 p.m. ET 10/23/17.

Docket Numbers: ER18-11-000.

Applicants: Southwest Power Pool, Inc.

Description: § 205(d) Rate Filing: 1313R10 Oklahoma Gas and Electric Company NITSA and NOA to be effective 9/1/2017.

Filed Date: 10/2/17.

Accession Number: 20171002-5245.

Comments Due: 5 p.m. ET 10/23/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 2, 2017.
Nathaniel J. Davis, Sr.,
Deputy Secretary.

[FR Doc. 2017-21676 Filed 10-6-17; 8:45 am]

BILLING CODE 6717-01-P